DEPARTMENT OF COMMERCE

Foreign-Trade Zones Board

[S-378-2025]

Foreign-Trade Zone 40; Application for Subzone; Atlantic Veal & Lamb, LLC; Creston and Sterling, Ohio

An application has been submitted to the Foreign-Trade Zones (FTZ) Board by the Cleveland Cuyahoga County Port Authority, grantee of FTZ 40, requesting subzone status for the facilities of Atlantic Veal & Lamb, LLC, located in Creston and Sterling, Ohio. The application was submitted pursuant to the provisions of the Foreign-Trade Zones Act, as amended (19 U.S.C. 81a-81u), and the regulations of the FTZ Board (15 CFR part 400). It was formally docketed on December 5, 2025.

The proposed subzone would consist of the following sites: Site 1 (35.5 acres) 2416 E West Salem Road, Creston; and Site 2 (2.93 acres) 6658 Zigler Road, Sterling. A notification of proposed production activity has been submitted and (will be published separately for public comment). The proposed subzone would be subject to the existing activation limit of FTZ 40.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is January 20, 2026. Rebuttal comments in response to material submitted during the foregoing period may be submitted through February 3, 2026.

A copy of the application will be available for public inspection in the “Online FTZ Information Section” section of the FTZ Board's website, which is accessible via www.trade.gov/ftz.

For further information, contact Juanita Chen at juanita.chen@trade.gov.

Dated: December 5, 2025.
Elizabeth Whiteman,
Executive Secretary.

[FR Doc. 2025-22381 Filed 12-9-25; 8:45 am]

BILLING CODE 3510-DS-P